NATIONAL SCIENCE FOUNDATION

Privacy Act of 1974; System of Records

AGENCY: Office of the General Counsel, National Science Foundation.

ACTION: Notice of a new Privacy Act System of Records NSF-74: National Science Foundation Child Care Subsidy Program.

System Name: National Science Foundation Child Care Subsidy Program.

SUMMARY: In accordance with the requirements of the Privacy Act of 1974, as amended, 5 U.S.C. 552a, the National Science Foundation (NSF) gives notice of a new Privacy Act system of records: National Science Foundation Child Care Subsidy Program. This program was created as the result of Public Law 107-67, Section 630, which allows executive agencies to use appropriated funds to provide child care services for Federal civilian employees. The purpose of the records maintained in this system is to establish and verify NSF employee eligibility for child care subsidies to provide monetary assistance to them.

DATES: Effective Date: This action shall be effective without further notice on August 21, 2008, unless comments are received during or before this period that would result in a contrary determination.

Comments Due Date: Submit comments on or before August 21, 2008.

ADDRESSES: Address all comments concerning this notice to Leslie Jensen, National Science Foundation, Office of the General Counsel, Room 1265, 4201 Wilson Boulevard, Arlington, Virginia 22230 or by sending electronic mail (e-mail) to ljensen@nsf.gov.

SUPPLEMENTARY INFORMATION: This publication is in accordance with the Privacy Act requirement that agencies publish a new system of records in the Federal Register.

Submit comments as an ASCII file avoiding the use of special characters and any form of encryption. Identify all comments sent in electronic E-mail with Subject Line: Comments on new system.

FOR FURTHER INFORMATION CONTACT: Leslie Jensen (703) 292-5065.

Dated: July 15, 2008.
Lawrence Rudolph,
General Counsel.

National Science Foundation

SYSTEM NAME:

National Science Foundation Child Care Subsidy Program (NSF-74).

SYSTEM LOCATION:

National Science Foundation, Division of Human Resources, 4201 Wilson Boulevard, Arlington, VA 22230; and in the offices of the contract employees engaged to administer the subsidy programs.

CATEGORIES OF INDIVIDUALS COVERED BY THE SYSTEM:

(1) Current employees of the National Science Foundation who voluntarily apply for a child care subsidy, their spouses, and children who are enrolled in a licensed Federal or non-Federal center, or licensed home-based care.

(2) Child-care providers of these employees.

CATEGORIES OF RECORDS IN THE SYSTEM:

The information collected will include the employee's name, spouse's name, employee's title, grade, home and work telephone numbers, home and work addresses, the organization in which the employee works, the employee's social security number, the spouse's social security number, the employee's tax returns, the spouse's tax returns, the name and social security number of the child on whose behalf the parent is applying for a subsidy, the child's date of birth, the date of entry into the Child Care Subsidy Program, and the amount of subsidy received; the name, address, telephone number, employer identification number (EIN), license and accreditation status of the child care center in which the employee's child(ren) is (are) enrolled, and the dates of attendance.

AUTHORITY FOR MAINTENANCE OF THE SYSTEM:

5 U.S.C. 301 and Executive Order 12656 of Nov. 18, 1988, on Assignment of Emergency Preparedness Responsibilities.

PURPOSE OF THE SYSTEM:

The primary use of the records maintained in this system is to establish and verify the National Science Foundation employee's eligibility for child care subsidies in order to provide monetary assistance to them. Other uses of the records in the system include verifying the eligibility of child care provider and verifying compliance with regulations.

ROUTINE USES OF RECORDS MAINTAINED IN THE SYSTEM, INCLUDING CATEGORIES OF USERS AND THE PURPOSES OF SUCH USES:

1. Information from the system may be disclosed to a Federal government authority for the purpose of coordinating and reviewing employee eligibility for the child care subsidy.

2. Information from the system may be disclosed to a Congressional office from the record of an individual in response to an inquiry from the Congressional office made at the request of that individual.

3. Information from the system may be disclosed to contractors, grantees, volunteers, experts, advisors, and other individuals who perform a service to or work on or under a contract, grant, cooperative agreement, advisory committee, committee of visitors, or other arrangement with or for the Federal government, as necessary to carry out their duties in pursuit of the purposes described above. The contractors are subject to the provisions of the Privacy Act.

4. Information from the system may be merged with other computer files in order to carry out statistical studies or otherwise assist NSF with program management, evaluation, and reporting. Disclosure may be made for this purpose to NSF contractors and collaborating researchers, other Government agencies, and qualified research institutions and their staffs. Disclosures are made only after scrutiny of research protocols and with appropriate controls. The results of such studies are statistical in nature and do not identify individuals.

5. Information from the system may be disclosed to the Department of Justice or the Office of Management and Budget for the purpose of obtaining advice on the application of the Freedom of Information Act or Privacy Act to the records.

6. Information from the system may be disclosed to another Federal agency, a court, or a party in litigation before a court or in an administrative proceeding being conducted by a Federal agency when the Government is a party to the judicial or administrative proceeding.

7. Information from the system may be disclosed to the Department of Justice, to the extent disclosure is compatible with the purpose for which the record was collected and is relevant and necessary to litigation or anticipated litigation, in which one of the following is a party or has an interest: (a) NSF or any of its components; (b) an NSF employee in his/her official capacity; (c) an NSF employee in his/her individual capacity when the Department of Justice is representing or considering representing the employee; or (d) the United States, when NSF determines that litigation is likely to affect the Agency.

8. Information from the system may be disclosed to representatives of the General Services Administration and the National Archives and Records Administration who are conducting records management inspections under the authority of 44 U.S.C. 2904 and 2906.

9. Information from the system may be disclosed to appropriate agencies, entities, and persons when (1) the NSF suspects or has confirmed that the security or confidentiality of information in the system of records has been compromised; (2) the NSF has determined that as a result of the suspected or confirmed compromise there is a risk of harm to economic or property interests, identity theft or fraud, or harm to the security or integrity of this system or other systems or programs (whether maintained by the NSF or another agency or entity) that rely upon the compromised information; and (3) the disclosure made to such agencies, entities, and persons is reasonably necessary to assist in connection with the NSF's efforts to respond to the suspected or confirmed compromise and prevent, minimize, or remedy such harm.

POLICIES AND PRACTICES FOR STORING, RETRIEVING, ACCESSING, RETAINING, AND DISPOSING OF RECORDS IN THE SYSTEM:

STORAGE:

Records are stored in paper and/or electronic format.

RETRIEVABILITY:

Records are retrieved by the name and social security number of employees applying for child care subsidies.

SAFEGUARDS:

Access to records in the system is limited to authorized personnel whose official duties require such access. Paper records are maintained in locked metal file cabinets and/or in secured rooms. Electronic records are password-protected.

RETENTION AND DISPOSAL:

These records will be maintained permanently until their official retention period is established.

SYSTEM MANAGER(S) AND ADDRESS:

Branch Chief, Employee Relations, Division of Human Resources, National Science Foundation, 4201 Wilson Blvd., Arlington, VA 22230

NOTIFICATION PROCEDURES:

Requests to determine whether this system contains a record pertaining to the requesting individual should be sent to the Privacy Act Officer, Office of General Counsel, National Science Foundation, 4201 Wilson Blvd., Arlington, VA 22230.

RECORD ACCESS PROCEDURES:

A request for access to records contained in the system should be addressed to the Privacy Act Officer, Office of General Counsel, National Science Foundation, 4201 Wilson Blvd., Arlington, VA 22230.

CONTESTING RECORDS PROCEDURES:

See Record Access Procedures above.

RECORD SOURCE CATEGORIES:

Applications for child care subsidies and supporting records, which are voluntarily submitted by NSF employees applying for child care subsidies.

EXEMPTIONS CLAIMED FOR THE SYSTEM:

None.

[FR Doc. E8-16683 Filed 7-21-08; 8:45 am]

BILLING CODE 7555-01-P